DEPARTMENT OF ENERGY

Federal Energy Regulatory Commission

[Docket Nos. CP14-517-000; CP14-518-000 and PF13-14-000]

Golden Pass Products, LLC and Golden Pass Pipeline, LLC; Notice of Applications

Take notice that on July 7, 2014, Golden Pass Products, LLC (GP Products), Three Allen Center, 333 Clay Street, Houston, Texas 77002, filed in Docket No. CP14-517-000, an application pursuant to section 3(a) of the Natural Gas Act (NGA) and Part 157 for authority to site, construct and operate its Golden Pass Terminal Expansion Project (GPX Terminal Project), for liquefaction and export of liquefied natural gas (LNG). The proposed facilities are to be constructed contiguous to and integrated with the existing Golden Pass LNG Terminal LLC (GPLNG Terminal) LNG import facilities located in Sabine Pass, Texas. Upon completion, the Golden Pass Terminal Complex will include both LNG import and export facilities.

GP Products proposes to construct and operate three liquefaction trains with a total production capacity system to produce 15.6 million metric tonnes per annum of LNG. GPP also proposes modifications to the existing GPLNG Terminal facilities to provide for optimization of existing facilities and equipment, as well as minimization of the overall project footprint. GP Products further proposes construction and operation of feed gas treatment facilities, including systems for removal of mercury, carbon dioxide, hydrogen sulfide and heavy hydrocarbons; and the installation of a 200-250 megawatt self-generation power plant.

Take further notice that contemporaneously with GP Product's application, Golden Pass Pipeline, LLC (Golden Pass PL) filed in Docket No. CP14-518-000 a related application pursuant to section 7(c) of the Natural Gas Act and Part 157 of the Commission's regulations for a certificate of public convenience and necessity authorizing Golden Pass PL to construct and operate the Golden Pass Pipeline Expansion Project (GPX Pipeline Project) located in Texas and Louisiana. Authorization of the GPX Pipeline Project, which will enable GP Pipeline to provide firm and interruptible gas transportation service on the proposed facilities under a new rate schedule, will permit shippers to have domestic-source natural gas shipped to the proposed GP Products export facilities. GP Products will receive gas for export from GP Pipeline's facilities, which are interconnected with the existing GPLNG Terminal.

The GPX Pipeline Project would comprise 2.55 miles of 24-inch pipeline; 11 compressors of various horsepower (HP) rating at three locations totaling 121,750 HP; modifications to piping and valves at five pipeline interconnects to provide for bi-directional capability; and modification to various taps and valves, and a pig trap.

Further information on the GPX Terminal Project and the GPX Pipeline Project are more fully set forth in the applications which are on file with the Commission and open to public inspection. These filings may also be viewed on the Commission's Web site at http://www.ferc.gov using the “eLibrary” link. Enter the docket number, excluding the last three digits, in the docket number field to access the document. There is an eSubscription link on the Web site that enables subscribers to receive email notification when a document is added to a subscribed docket(s). For assistance, call (202) 502-8659 or TTY, (202) 208-3676.

Any questions regarding these applications should be directed Robert T. Tomlinson, Senior Manager Regulatory Affairs for GP Products and GP Pipeline, Three Allen Center, Suite 802, 333 Clay Street, Houston, Texas 77002, phone: (713) 860-6348, fax: (713) 860-6344, or email: bob.tomlinson@gpterminal.com.

On March 20, 2013, the Commission staff granted the Golden Pass Product and Golden Pass Pipeline's request to utilize the Pre-Filing Process and assigned Docket No. PF13-14-000 to staff activities involved the GPX Terminal and GPX Pipeline Projects. Now as of filing the July 7, 2014 applications, the Pre-Filing Process for this project has ended. From this time forward, this proceeding will be conducted in Docket Nos. CP14-517-000 and CP14-518-000 as noted in the caption of this Notice.

Pursuant to section 157.9 of the Commission's rules, 18 CFR 157.9, within 90 days of this Notice, the Commission staff will issue a Notice of Schedule for Environmental Review. If a Notice of Schedule for Environmental Review is issued, it will indicate, among other milestones, the anticipated date for the Commission staff's issuance of the final environmental impact statement (FEIS) for this proposal. The issuance of a Notice of Schedule for Environmental Review will serve to notify federal and state agencies of the timing for the completion of all necessary reviews, and the subsequent need to complete all federal authorizations within 90 days of the date of issuance of the Commission staff's FEIS.

There are two ways to become involved in the Commission's review of this project. First, any person wishing to obtain legal status by becoming a party to the proceedings for this project should, on or before the below listed comment date, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: 5:00 p.m. Eastern Time on August 11, 2014.

Dated: July 21, 2014.
Kimberly D. Bose,
Secretary.

[FR Doc. 2014-17753 Filed 7-28-14; 8:45 am]

BILLING CODE 6717-01-P